CONSUMER PRODUCT SAFETY COMMISSION

Proposed Collection of Information; Comment Request—Testing and Recordkeeping Requirements Under the Standard for the Flammability of Mattresses and Mattress Pads

AGENCY: Consumer Product Safety Commission.

ACTION: Notice.

SUMMARY: As required by the Paperwork Reduction Act of 1995 (44 U.S.C. Chapter 35), the Consumer Product Safety Commission requests comments on a proposed three year extension of approval of information collection requirements in the Standard for the Flammability of Mattresses and Mattress Pads. 16 CFR part 1632. The standard is intended to reduce unreasonable risks of burn injuries and deaths from fires associated with mattresses and mattress pads. The standard prescribes a test to assure that a mattress or mattress pad will resist ignition from a smoldering cigarette. The standard requires manufacturers to perform prototype tests of each combination of materials and construction methods used to produce mattresses or mattress pads and to obtain acceptable results from such testing. Sale or distribution of mattresses without successful completion of the testing required by the standard violates section 3 of the Flammable Fabrics Act. 15 U.S.C. 1192. An enforcement rule implementing the standard requires manufacturers to maintain records of testing performed in accordance with the standard and other information about the mattress or mattress pads which they produce. The Commission will consider all comments received in response to this notice before requesting approval of renewal of this collection of information from the Office of Management and Budget.

DATES: Written comments must be received by the Office of the Secretary not later than July 13, 2004.

ADDRESSES: Written comments should be captioned “Collection of Information—Mattress Flammability Standard” and mailed to the Office of the Secretary, Consumer Product Safety Commission, Washington, DC 20207, or delivered to that office, room 502, 4330 East-West Highway, Bethesda, Maryland 20814. Written comments may also be sent to the Office of the Secretary by facsimile at (301) 504-0127 or by e-mail at cpsc-os@cpsc.gov.

FOR FURTHER INFORMATION CONTACT: For information about the proposed renewal of this collection of information, or to obtain a copy of 16 CFR part 1632, call or write Linda L. Glatz, Office of Planning and Evaluation, Consumer Product Safety Commission, Washington, DC 20207; (301) 504-7671.

SUPPLEMENTARY INFORMATION:

A. Estimated Burden

The Commission staff estimates that at this time there are 751 establishments producing mattresses, mattress pads, futons, or other types of products required to test and keep records pursuant to 16 CFR part 1632. The staff further estimates that each firm will spend 26 hours for testing and recordkeeping annually for a total of 19,526 hours (751 firms × 26 hours = 19,526 total hours). The annualized cost would be $477,996 based on 19,526 hours times $24.48/hour (based on total compensation of all civilian workers in the U.S., September 2003, Bureau of Labor Statistics).

B. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: May 10, 2004.
Todd A. Stevenson,
Secretary, Consumer Product Safety Commission.

[FR Doc. 04-10913 Filed 5-13-04; 8:45 am]

BILLING CODE 6355-01-P